DEPARTMENT OF HEALTH AND HUMAN SERVICES

National Institutes of Health

Center for Scientific Review; Amended Notice of Meeting

Notice is hereby given of a change in the meeting of the Center for Scientific Review Special Emphasis Panel, April 1, 2005, 11 a.m. to April 1, 2005, 1 p.m., National Institutes of Health, 6701 Rockledge Drive, Bethesda, MD 20892 which was published in the Federal Register on March 15, 2005, 70 FR 12705-12707.

The meeting will be held on March 30, 2005, from 11 a.m. to 2 p.m. The meeting location remains the same.

The meeting is closed to the public.

Dated: March 18, 2005.
LaVerne Y. Stringfield,
Director, Office of Federal Advisory Committee Policy.

[FR Doc. 05-5871 Filed 3-23-05; 8:45 am]

BILLING CODE 4140-01-M